DEPARTMENT OF DEFENSE

Department of the Air Force

Record of Decision for the Department of the Air Force F-35A Operational Beddown 125th Fighter Wing, Air National Guard Jacksonville International Airport

ACTION: Notice of availability of Record of Decision.

SUMMARY: On July 27, 2021, the Department of the Air Force (DAF) signed a Record of Decision (ROD) based on the Air National Guard Final Environmental Impact Statement.

ADDRESSES: Mr. Will Strickland, NGB/A4AM, 3501 Fetchett Ave., Joint Base Andrews, Maryland 20762, (240) 612-7042; william.strickland.7@us.af.mil.

SUPPLEMENTARY INFORMATION: The DAF will beddown 18 F-35A Primary Aircraft Authorized (PAA) and 2 Back-up Inventory (BAI) with associated construction activities as identified under the NGB for Ops 9 at the 125 FW, Jacksonville IAP, Florida. The DAF decision documented in the ROD was based on matters discussed in the Final Environmental Impact Statement, inputs from the public and regulatory agencies, and other relevant factors. The Final EIS was made available to the public on February 5, 2021 through a Notice of Availability in the Federal Register (Volume 86, Number 23, page 8356) with a waiting period that ended on March 8, 2021.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane Paris,
Acting Air Force Federal Register Officer.

[FR Doc. 2021-18336 Filed 8-25-21; 8:45 am]

BILLING CODE 5001-05-P